FEDERAL COMMUNICATIONS COMMISSION

47 CFR Part 73

[DA 04-3056; MB Docket No. 04-375, RM-11038; MB Docket No. 04-376, RM-11039; MB Docket No. 04-377, RM-11077; MB Docket No. 04-378; RM-11079; MB Docket No. 04-379, RM 11086]

Radio Broadcasting Services; Dover, Ohio, Eatonton, GA, Haven, KS, Hillsborough, NC, Hutchinson, KS; Lake Charles, LA, Lexington, GA, Louisburg, NC, North Canton; OH and West Orange, TX

AGENCY: Federal Communications Commission.

ACTION: Proposed rule.

SUMMARY: The document proposes five change of community reallotments for Louisburg and Hillsborough, North Carolina; Hutchinson and Haven, Kansas; Dover and North Canton, Ohio; Lake Charles, Louisiana and West Orange, Texas; and Eatonton and Lexington, Georgia. See SUPPLEMENTARY INFORMATION, infra.

DATES: Comments must be filed on or before November 18, 2004, reply comments on or before December 3, 2004.

ADDRESSES: Federal Communications Commission, Washington, DC 20554. In addition to filing comments with the FCC, interested parties should serve the petitioner, or its counsel or consultant, as follows: David Kushner, Esq. Brooks Pierce, McClendon, Humphrey & Leonard, L.L.P., First Union Capitol Center, Suite 1600, 150 Fayetteville Street Mall, Raleigh, North Carolina 27602 (Counsel for New Century Media Group, LLC); Joseph P. Benkert, Esq., P.C. P.O. Box 620308, Littleton, Colorado 80162-0308 (Counsel for Ad Astra per Aspera Broadcasting, Inc.); Mark N. Lipp, Esq., Vinson & Elkins, L.L.P., 1455 Pennsylvania Ave., NW., Suite 600, Washington, DC 20004-1008 (Counsel for Clear Channel Broadcasting Licenses, Inc. and Apex Broadcasting, Inc.); and Lauren A. Colby, Esq., 10 E. Fourth Street, P.O. Box 113, Frederick, Maryland 21705-0113 (Counsel for Middleton Georgia Communications, Inc.).

FOR FURTHER INFORMATION CONTACT: Sharon P. McDonald, Media Bureau, (202) 418-2180.

SUPPLEMENTARY INFORMATION: This is a synopsis of the Commission's Notice of Proposed Rule Making, MB Docket No. 04-375, MB Docket No. 04-376, MB Docket No. 04-377, MB Docket No. 04-378 and MB Docket No. 04-379, adopted September 23, 2004, and released September 27, 2004. The full text of this Commission decision is available for inspection and copying during normal business hours in the FCC Reference Information Center (Room CY-A257), 445 12th Street, SW., Washington, DC. This document may also be purchased from the Commission's copy contractor, Best Copy and Printing, Inc., Portals II, 445 12th Street, SW., Room CY-B402, Washington, DC 20054, telephone 1-800-378-3160 or http://www.BCPIWEB.com.

The Audio Division requests comments on a petition filed by New Century Media Group, LLC, proposing the reallotment of Channel 273A from Louisburg to Hillsborough, North Carolina, and the modification of Station WHLQ(FM)'s license accordingly. Channel 273A can be reallotted to Hillsborough in compliance with the Commission's minimum distance separation requirements with a site restriction of 9.51 kilometers (5.91 mile) northeast to avoid short-spacings to the licensed sites of Station WJMH(FM), Channel 271C, Reidsville, North Carolina, and Station WIOZ-FM, Channel 273A, Southern Pines, North Carolina. The reference coordinates for Channel 273A at Hillsborough are 36-06-49 NL and 79-00-20 WL. In accordance with the provisions of Section 1.420(i) of the Commission's Rules, we will not accept competing expressions of interest for the use of Channel 273A at Hillsborough, North Carolina, or require petitioner to demonstrate the existence of an equivalent class channel for the use of other interested parties.

The Audio Division requests comments on a petition filed by Ad Astra per Aspera Broadcasting, Inc., proposing the reallotment of Channel 246C2 from Hutchinson to Haven, Kansas, and the modification of Station KSKU(FM)'s construction permit accordingly. Channel 246C2 can be reallotted to Haven in compliance with the Commission's minimum distance separation requirements with a site restriction of 24.9 kilometers (15.5 miles) southeast to avoid a short-spacing the proposed site for Channel 247C3, Howard, Kansas. The reference coordinates for Channel 246C2 at Haven are 37-47-47 NL and 97-31-59 WL. In accordance with the provisions of Section 1.420(i) of the Commission's Rules, we will not accept competing expressions of interest for the use of Channel 246C2 at Haven, Kansas, or require petitioner to demonstrate the existence of an equivalent class channel for the use of other interested parties. In addition, Station KSKU-FM was granted a construction permit to specify operation on Channel 246C2 in lieu of Channel 246C3 at Hutchinson. See BPH-20000424ABH. This change is not reflected in the FM Table of Allotments.

The Audio Division requests comments on a petition filed by Clear Channel Broadcasting Licenses, Inc., proposing the reallotment of Channel 269A from Dover to North Canton, Ohio, and the modification of Station WJER-FM's license accordingly. Channel 269A can be reallotted to North Canton in compliance with the Commission's minimum distance separation requirements with a site restriction of 7.5 kilometers (4.7 miles) south to avoid short-spacings to the licensed sites of Station WHOT-FM, Channel 266B, Youngstown, Ohio, and Station WDOK(FM), Channel 271B, Cleveland, Ohio. The reference coordinates for Channel 269A at North Canton are 40-48-30 NL and 81-23-31 WL. Since North Canton is located within 320 kilometers (200 miles) of the U.S.-Canadian border, concurrence of the Canadian government has been requested. In accordance with the provisions of Section 1.420(i) of the Commission's Rules, we will not accept competing expressions of interest for the use of Channel 269A at North Canton, Ohio, or require petitioner to demonstrate the existence of an equivalent class channel for the use of other interested parties.

The Audio Division requests comments on a petition filed by Apex Broadcasting, Inc., LLC, proposing the reallotment of Channel 258C0 from Lake Charles, Louisiana to West Orange, Texas, and the modification of Station KBXG(FM)'s construction permit accordingly. Channel 258C0 can be reallotted to West Orange in compliance with the Commission's minimum distance separation requirements with a site restriction of 15.4 kilometers (9.5 miles) east to avoid a short-spacing to the licensed site of Station KSHN(FM), Channel 260C2, Liberty, Texas. The reference coordinates for Channel 258C0 at West Orange are 30-07-21 NL and 93-36-21 WL. In accordance with the provisions of Section 1.420(i) of the Commission's Rules, we will not accept competing expressions of interest for the use of Channel 258C0 at West Orange, Texas, or require petitioner to demonstrate the existence of an equivalent class channel for the use of other interested parties.

The Audio Division requests comments on a petition filed by Middle Georgia Communications, Inc., proposing the substitution of Channel 249C2 for Channel 249C3 at Eatonton, the reallotment of Channel 249C2 from Eatonton to Lexington, Georgia, and the modification of Station WMGZ(FM)'s license accordingly. Channel 249C2 can be reallotted to Lexington in compliance with the Commission's minimum distance separation requirements with a site restriction of 30.5 kilometers (19.0 miles) southeast to avoid short-spacings to the licensed sites of Station WFOX(FM), Channel 246C, Gainesville, Georgia and Station WHZT(FM), Channel 251C, Seneca, South Carolina The reference coordinates for Channel 249C2 at Lexington are 33-45-03 NL and 82-48-53 WL. In accordance with the provisions of Section 1.420(i) of the Commission's Rules, we will not accept competing expressions of interest for the use of Channel 249C2 at Lexington, Georgia, or require petitioner to demonstrate the existence of an equivalent class channel for the use of other interested parties.

Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Georgia, is amended by removing Channel 249C3 at Eatonton; and by adding Lexington, Channel 249C2.

3. Section 73.202(b), the Table of FM Allotments under Kansas, is amended by removing Channel 246C3 at Hutchinson; and by adding Haven, Channel 246C2.

4. Section 73.202(b), the Table of FM Allotments under Louisiana, is amended by removing 258C0 at Lake Charles.

5. Section 73.202(b), the Table of FM Allotments under Ohio, is amended by removing Channel 269A at Dover; and by adding North Canton, Channel 269A.

6. Section 73.202(b), the Table of FM Allotments under North Carolina, is amended by removing Channel 273A at Louisburg; and by adding Hillsborough, Channel 273A.

7. Section 73.202(b), the Table of FM Allotments under Texas, is amended by adding West Orange, Channel 258C0.

Federal Communications Commission.
John A. Karousos,
Assistant Chief, Audio Division, Media Bureau.

[FR Doc. 04-22752 Filed 10-7-04; 8:45 am]

BILLING CODE 6712-01-P